DEPARTMENT OF TRANSPORTATION

National Highway Traffic Safety Administration

[Docket No. NHTSA-2023-0046; Notice 1]

FCA US LLC, Receipt of Petition for Decision of Inconsequential Noncompliance

AGENCY: National Highway Traffic Safety Administration (NHTSA), Department of Transportation (DOT).

ACTION: Receipt of petition.

SUMMARY: FCA US LLC (FCA) has determined that certain model year (MY) 2022-2023 Ram ProMaster vehicles do not fully comply with Federal Motor Vehicle Safety Standard (FMVSS) No. 101, Controls and Displays. FCA filed a noncompliance report dated April 13, 2023, and subsequently petitioned NHTSA (the “Agency”) on May 5, 2023, for a decision that the subject noncompliance is inconsequential as it relates to motor vehicle safety. This document announces receipt of FCA's petition.

DATES: Send comments on or before April 29, 2024.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Frederick Smith, General Engineer, NHTSA, Office of Vehicle Safety Compliance, (202) 366-7487.

SUPPLEMENTARY INFORMATION:

I. Overview: FCA determined that certain MY 2022-2023 Ram ProMaster vehicles do not fully comply with paragraph S5.3 of FMVSS No. 101, Controls And Displays (49 CFR 571.101).

FCA filed a noncompliance report dated April 13, 2023, pursuant to 49 CFR part 573, Defect and Noncompliance Responsibility and Reports. FCA petitioned NHTSA on May 5, 2023, for an exemption from the notification and remedy requirements of 49 U.S.C. chapter 301 on the basis that this noncompliance is inconsequential as it relates to motor vehicle safety, pursuant to 49 U.S.C. 30118(d) and 30120(h) and 49 CFR part 556, Exemption for Inconsequential Defect or Noncompliance.

This notice of receipt of FCA's petition is published under 49 U.S.C. 30118 and 30120 and does not represent any agency decision or another exercise of judgment concerning the merits of the petition.

II. Vehicles Involved: Approximately 9,101 MY 2022-2023 Ram ProMaster vans, manufactured between August 30, 2021, and March 23, 2023, were reported by the manufacturer.

III. Noncompliance: FCA explains that the subject vehicles equipped with a 3.5-inch IPC and adaptive cruise control (“ACC”) may have been built with IPC software that can cause the IPC to go blank for four to five seconds while it resets, and therefore does not comply with paragraph S5.3 of FMVSS No. 101. Specifically, if the ACC is engaged and in ready mode, and if the driver rapidly presses the speed control button (three or more times in one second), the system can incorrectly detect a fault and trigger a cluster reset. During this reset, the cluster display will go blank, and the speedometer indicator will go to zero before resetting.

IV. Rule Requirements: Paragraph S5.3 of FMVSS No. 101 includes the requirements relevant to this petition. Paragraph S5.3.1(a) provides that except as provided in S5.3.1(c), the identifications of controls for which the word “Yes” is specified in column 5 of Table 1 must be capable of being illuminated whenever the headlamps are activated. This requirement does not apply to a control located on the floor, floor console, steering wheel, steering column, or in the area of windshield header, or to a control for a heating and air-conditioning system that does not direct air upon the windshield. Paragraph S5.3.1(e) provides that a telltale must not emit light except when identifying the malfunction or vehicle condition it is designed to indicate, or during a bulb check.

V. Summary of FCA's Petition: The following views and arguments presented in this section, “V. Summary of FCA's Petition,” are the views and arguments provided by FCA. They have not been evaluated by the Agency and do not reflect the views of the Agency. FCA describes the subject noncompliance and contends that the noncompliance is inconsequential as it relates to motor vehicle safety.

The noncompliant condition can occur regardless of the use of the vehicle's headlamps. Further, the IPC reset effectively includes a bulb check function for all of the IPC Telltales as it comes back on. As mentioned above, the IPC reset occurs when the ACC is engaged, and the driver rapidly and repeatedly presses the steering wheel-mounted button to either increase or decrease the ACC set speed. Other than causing the IPC to reset, no other function of the vehicle is affected, and the vehicle does not shut off. For example, the vehicle will continue to operate with full motive power as prescribed by the ACC engaged speed last selected by the driver. Power assist for both steering and braking are also unaffected by the IPC reset event, as are headlamp and taillamp functionality. The driver will continue to be able to adjust the ACC set speed using the control buttons during and after the reset event.

FCA explains that the subject noncompliance may arise regardless of whether the vehicle's headlamps are in use. FCA adds that the IPC reset includes a bulb check function for all IPC Telltales upon reactivation. The IPC reset occurs when the ACC is activated, and the “driver rapidly and repeatedly presses the steering wheel-mounted button to either increase or decrease the ACC set speed.” FCA notes that aside from initiating the IPC reset, no other vehicle function is affected, and the vehicle does not shut off. FCA says the vehicle will continue to function with full motive power based on the ACC engaged speed last chosen by the driver. Further, FCA says that power assist for both steering and braking remains unaffected by the IPC reset event, as do headlamp and taillamp functionalities. According to FCA, throughout and after the reset event, the driver retains the ability to adjust the ACC set speed using the control buttons. FCA asserts that the subject noncompliance is not a significant hazard that diverts the driver's attention from the driving task or results in control selection mistakes (FCA refers to FMVSS No. 101 S2). Therefore, FCA believes that the subject noncompliance should be deemed inconsequential to motor vehicle safety for following reasons:

1. The reset occurs only if the driver “repeatedly and quickly” presses a button on the steering wheel to change the ACC set speed, which FCA says would indicate that the driver is “actively engaged in the driving task.”

2. The reset does not induce any change in vehicle behavior that might prompt the driver to react unsafely.

3. All exterior lighting, including headlamps, taillamps, and turn signals, remains fully functional and unaffected by the reset event.

4. No required controls are affected, and all controls they will remain properly illuminated and functional,

5. FCA refers to paragraph S5.3.1(b) of FMVSS No. 101 which provides that except as provided in S5.3.1(c), the indicators and their identifications for which the word Yes is specified in column 5 of Table 1 must be illuminated whenever the vehicles propulsion system and headlamps are activated.

a. FCA contends that the temporary loss of illumination of the required indicators resulting from the reset event does not pose an unsafe condition for the driver. Further, FCA says that none of the required indicators identifies a condition demanding a response in less than five seconds to avoid an unsafe condition.

b. FCA says that the indicators required by FMVSS No. 101 Table 1 that are affected are: Fuel Level; Engine oil pressure; Engine coolant temperature; Electrical charge; Speedometer; Automatic transmission control position. Regarding the speedometer, FCA asserts that the driver would be aware of the vehicle speed before deciding to activate the ACC set speed change. According to FCA, the reset is triggered by the incremental adjustment of the known set speed, yet the driver remains aware of the speed at the commencement of the set speed change action and promptly after the conclusion of the reset event. Additionally, FCA says that the vehicle will consistently be in Drive for the reset event to take place, ensuring that the automatic transmission control position remains unchanged throughout the reset event.

6. FCA says that the reset event will briefly illuminate all telltales, deviating from the exception allowed by paragraph S5.3.1(e) of FMVSS No. 101. However, FCA contends that the likelihood of this brief illumination posing an unreasonable risk to safety before the reset is complete is extremely low. Further, FCA states that following the reset event, any telltale required by an underlying condition will become properly illuminated, while all others will be extinguished.

7. FCA refers to the Federal Register Docket No. NHTSA20130134; Notice 2 in which, according to FCA, NHTSA granted a petition for a decision of inconsequential noncompliance for a condition that is substantially similar to the subject noncompliance. Like that petition, FCA says it willing to provide NHTSA with a video of the reset event or provide a vehicle for NHTSA personnel to test in real world driving conditions. The subject noncompliance is substantially similar to the previously granted noncompliance petition.

8. FCA notes that it began vehicle production with compliant IPC software on March 23, 2023, and states that it is not aware of any crashes, injuries, or customer complaints associated with the condition.

FCA concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that FCA no longer controlled at the time it determined that the noncompliance existed. However, any decision on this petition does not relieve vehicles distributors and dealers of the prohibitions on the sale, offer for sale, or introduction or delivery for introduction into interstate commerce of the noncompliant vehicles under their control after FCA notified them that the subject noncompliance existed.

(Authority: 49 U.S.C. 30118, 30120: delegations of authority at 49 CFR 1.95 and 501.8)

Otto G. Matheke III,
Director, Office of Vehicle Safety Compliance.

[FR Doc. 2024-06653 Filed 3-27-24; 8:45 am]

BILLING CODE 4910-59-P